FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 3, 2011.

A. Federal Reserve Bank of Minneapolis (Jacqueline G. King, Community Affairs Officer) 90 Hennepin Avenue, Minneapolis, Minnesota 55480-0291:

1. Noah W. Wilcox, Grand Rapids, Minnesota, as an individual and as trustee of the Noah W. Wilcox Trust, Grand Rapids, to acquire 25 percent or more of the voting shares of Wilcox Bancshares, Grand Rapids, Minnesota, and thereby indirectly control Grand Rapids State Bank, Grand Rapids, Minnesota. Additionally, the Noah W. Wilcox Trust, trustees Noah W. Wilcox and Dorsey & Whitney Trust Company LLC, Sioux Falls, South Dakota, is filing to join the Wilcox Family Group, and thereby indirectly control Grand Rapids State Bank, Grand Rapids, Minnesota.

Board of Governors of the Federal Reserve System, February 10, 2011.
Robert deV. Frierson,
Deputy Secretary of the Board.

[FR Doc. 2011-3370 Filed 2-14-11; 8:45 am]

BILLING CODE 6210-01-P